DEPARTMENT OF TRANSPORTATION

Federal Aviation Administration

14 CFR Part 39

[Docket No. FAA-2022-0988; Project Identifier MCAI-2021-00438-R]

RIN 2120-AA64

Airworthiness Directives; Airbus Helicopters

AGENCY: Federal Aviation Administration (FAA), DOT.

ACTION: Notice of proposed rulemaking (NPRM).

SUMMARY: The FAA proposes to adopt a new airworthiness directive (AD) for Airbus Helicopters Model SA-365N, SA-365N1, AS-365N2, AS 365 N3, EC 155B, and EC155B1 helicopters. This proposed AD was prompted by reports of the cockpit doors failing to open after ditching with inflated floats on certain helicopters equipped with an emergency flotation system (EFS). This proposed AD would require revising the existing Rotorcraft Flight Manual (RFM) for your helicopter, installing placards, and depending on your model helicopter, modification of the jettisoning system, as specified in a European Union Aviation Safety Agency (EASA) AD, which is proposed for incorporation by reference (IBR). The FAA is proposing this AD to address the unsafe condition on these products.

DATES: The FAA must receive comments on this proposed AD by September 26, 2022.

ADDRESSES: You may send comments, using the procedures found in 14 CFR 11.43 and 11.45, by any of the following methods:

• Federal eRulemaking Portal: Go to www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that is proposed for IBR in this NPRM, contact EASA, Konrad-Adenauer-Ufer 3, 50668 Cologne, Germany; telephone +49 221 8999 000; email ADs@easa.europa.eu. You may find the EASA material on the EASA website at https://ad.easa.europa.eu; internet www.easa.europa.eu. For Airbus Helicopters service information identified in this NPRM, contact Airbus Helicopters, 2701 North Forum Drive, Grand Prairie, TX 75052; telephone (972) 641-0000 or (800) 232-0323; fax (972) 641-3775; or at www.airbus.com/helicopters/services/technical-support.html. You may view this material at the FAA, Office of the Regional Counsel, Southwest Region, 10101 Hillwood Pkwy., Room 6N-321, Fort Worth, TX 76177. For information on the availability of this material at the FAA, call (817) 222-5110. The EASA material is also available at www.regulations.gov by searching for and locating Docket No. FAA-2022-0988.

Examining the AD Docket

You may examine the AD docket at www.regulations.gov by searching for and locating Docket No. FAA-2022-0988; or in person at Docket Operations between 9 a.m. and 5 p.m., Monday through Friday, except Federal holidays. The AD docket contains this NPRM, the EASA AD, any comments received, and other information. The street address for Docket Operations is listed above.

FOR FURTHER INFORMATION CONTACT: Darren Gassetto, Aerospace Engineer, COS Program Management Section, Operational Safety Branch, Compliance & Airworthiness Division, FAA, 1600 Stewart Ave., Suite 410, Westbury, NY 11590; telephone (516) 228-7323; email Darren.Gassetto@faa.gov.

SUPPLEMENTARY INFORMATION:

Comments Invited

The FAA invites you to send any written relevant data, views, or arguments about this proposal. Send your comments to an address listed under ADDRESSES. Include “Docket No. FAA-2022-0988; Project Identifier MCAI-2021-00438-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Darren Gassetto, Aerospace Engineer, COS Program Management Section, Operational Safety Branch, Compliance & Airworthiness Division, FAA, 1600 Stewart Ave., Suite 410, Westbury, NY 11590; telephone (516) 228-7323; email Darren.Gassetto@faa.gov. Any commentary that the FAA receives that is not specifically designated as CBI will be placed in the public docket for this rulemaking.

Background

EASA, which is the Technical Agent for the Member States of the European Union, has issued a series of ADs, with the most recent being EASA AD 2021-0101R1, dated February 25, 2022 (EASA AD 2021-0101R1), to correct an unsafe condition for Airbus Helicopters (AH), formerly Eurocopter, Eurocopter France, Aerospatiale, Sud Aviation, Model SA 365 N, SA 365 N1, AS 365 N2, AS 365 N3, EC 155 B, and EC 155 B1 helicopters.

EASA initially issued EASA AD 2021-0041, dated January 28, 2021 (EASA AD 2021-0041), for certain Model SA 365 N, SA 365 N1, AS 365 N2, AS 365 N3, EC 155 B, and EC 155 B1 helicopters, which required modifying the jettisoning system by installing an external handle on the jettison system of the pilot and co-pilot doors on certain Model SA/AS 365 helicopters, installing external instruction placards on the left-hand (LH) and right-hand (RH) side of the helicopter, and amending the RFM. EASA later issued EASA AD 2021-0101, dated April 12, 2021 (EASA AD 2021-0101), which superseded EASA AD 2021-0041, to also address Model AS 365 helicopters with the Airbus Helicopters Forward Looking InfraRed (AH FLIR) system installed.

EASA AD 2021-0101R1 retains the requirements of EASA AD 2021-0101 and extends the compliance time for Model SA 365 N, SA 365 N1, AS 365 N2, and AS 365 N3 helicopters, if equipped with the fixed parts of the AH FLIR system installation and that are not equipped with an EFS with a certain cabin layout where the passage between cabin and cockpit is smaller than a Type 4 passage (as defined in EASA AD 2021-0101R1); except helicopters that have Airbus Helicopters modification (AH MOD) MC90B73 embodied in production.

This proposed AD was prompted by reports of failure of the cockpit doors to open after ditching with inflated floats on certain helicopters equipped with an EFS. EASA advises emergency evacuation was only possible by jettisoning the hinged doors from the inside or by accessing the emergency exits in the cabin. EASA further advises that the passage from the cockpit to the cabin may be impaired on helicopters with certain interior layouts.

The FAA is proposing this AD to prevent cockpit doors failing to open during an emergency evacuation after an emergency ditching with inflated floats, which could result in the prevention of incapacitated occupants exiting the helicopter during an emergency from the outside by external rescuers. See EASA AD 2021-0101R1 for additional background information.

Related Service Information Under 1 CFR Part 51

EASA AD 2021-0101R1 requires amending the RFM; installing placards on the LH and RH side of the helicopter; and for certain helicopters, modifying the jettison system by installing an external handle on the jettison system of the pilot and co-pilot doors.

This material is reasonably available because the interested parties have access to it through their normal course of business or by the means identified in the ADDRESSES section.

Other Related Service Information

The FAA reviewed Airbus Helicopters Alert Service Bulletin (ASB) No. AS365-52.00.27, Revision 1, dated June 4, 2021 (AS365-52.00.27, Rev 1), which specifies procedures for installing labels (placards) on the pilot and co-pilot doors. AS365-52.00.27, Rev 1, also specifies procedures for installing an external handle on the jettison system.

The FAA also reviewed Airbus Helicopters ASB No. AS365-52.00.29, Revision 1, dated February 9, 2022, ASB No. AS365-52.00.29, Revision 0, dated February 10, 2021, and ASB No. EC155-52A033, Revision 0, dated September 30, 2020. This service information specifies procedures for installing labels (placards) on the pilot and co-pilot doors.

The FAA also reviewed Airbus Helicopters Flight Manual (FM) SA 365 N Supplement, SUP.10.4, Normal Revision (NR) 7, date code 20-40; Airbus Helicopters FM SA 365 N1 Supplement, SUP.10.4, NR 9, date code 20-40; Airbus Helicopters FM AS 365 N2 Supplement, SUP.14, NR 6, date code 20-40; Airbus Helicopters FM AS 365 N3 Supplement, SUP.14, NR 12, date code 20-28; Airbus Helicopters FM EC 155 B Supplement, SUP.14, NR 7, date code 20-11; and Airbus Helicopters FM EC 155 B1 Supplement, SUP.14, NR 8, date code 20-11. This service information provides updated procedures for ditching and emergency evacuation.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of these same type designs.

Proposed AD Requirements in This NPRM

This proposed AD would require accomplishing the actions specified in EASA AD 2021-0101R1, described previously, as incorporated by reference, except for any differences identified as exceptions in the regulatory text of this proposed AD and except as discussed under “Differences Between this Proposed AD and EASA AD 2021-0101R1.”

This proposed AD would also require revising the existing RFM for your helicopter by updating the normal procedures section. Incorporating the RFM revision may be performed by the owner/operator (pilot) holding at least a private pilot certificate, and must be entered into the aircraft records showing compliance with this AD in accordance with 14 CFR 43.9(a) and 14 CFR 91.417(a)(2)(v). The record must be maintained as required by 14 CFR 91.417, 121.380, or 135.439.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2021-0101R1 by reference in the FAA final rule. This proposed AD would, therefore, require compliance with EASA AD 2021-0101R1 in its entirety through that incorporation, except for any differences identified as exceptions in the regulatory text of this proposed AD. Using common terms that are the same as the heading of a particular section in EASA AD 2021-0101R1 does not mean that operators need comply only with that section. For example, where the AD requirement refers to “all required actions and compliance times,” compliance with this AD requirement is not limited to the section titled “Required Action(s) and Compliance Time(s)” in EASA AD 2021-0101R1. Service information referenced in EASA AD 2021-0101R1 for compliance will be available at www.regulations.gov by searching for and locating Docket No. FAA-2022-0988 after the FAA final rule is published.

Differences Between This Proposed AD and EASA AD 2021-0101R1

EASA AD 2021-0101R1 allows using Airbus Helicopters ASB No. AS365-52.00.27, original issue, dated November 17, 2020 (including Erratum to ASB AS365-52.00.27, original issue, dated January 21, 2021); whereas this proposed AD would not. This proposed AD would require using Airbus Helicopters ASB No. AS365-52.00.27, Revision 1, dated June 4, 2021, instead. Where paragraph (2) of EASA AD 2021-0101R1 specifies to “modify the helicopter in accordance with the instructions of Section 3 of the applicable ASB,” this proposed AD would require using the instructions of Section 3.B. of the applicable ASB.

EASA AD 2021-0101R1 requires operators to “inform all flight crews” of revisions to the RFM, and thereafter to “operate the helicopter accordingly.” However, this proposed AD would not specifically require those actions. FAA regulations mandate compliance with only the operating limitations section of the flight manual. The flight manual changes required by this proposed AD would apply to the emergency procedures and normal procedures sections of the existing RFM for your helicopter. Furthermore, compliance with such requirements in an AD is impracticable to demonstrate or track on an ongoing basis; therefore, a requirement to operate the aircraft in such a manner is unenforceable. Nonetheless, the FAA recommends that flight crews of the helicopters listed in the applicability operate in accordance with the revised emergency procedures and normal procedures proposed by this AD.

This proposed AD would allow the owner/operator (pilot) holding at least a private pilot certificate to revise the existing RFM for your helicopter and do the logbook entry, where as EASA AD 2021-0101R1 does not specify this. This proposed AD would require these actions to be entered into the aircraft records showing compliance with this AD in accordance with 14 CFR 43.9(a) and 14 CFR 91.417(a)(2)(v). The record must be maintained as required by 14 CFR 91.417, 121.380, or 135.439.

For certain helicopters, this proposed AD would require revising section 4.1, Normal Procedures, of the existing RFM for your helicopter to add a check to the RH and LH Cockpit Door Jettison Handles, whereas EASA AD 2021-0101R1 does not require that action.

Costs of Compliance

The FAA estimates that this AD, if adopted as proposed, would affect 40 helicopters of U.S. Registry. Labor rates are estimated at $85 per work-hour. Based on these numbers, the FAA estimates the following costs to comply with this proposed AD.

Revising the existing RFM for your helicopter would take about 0.25 work-hour for an estimated cost of $21 per helicopter and $840 for the U.S. fleet.

Installing placards on the pilot and co-pilot doors would take about 1 work-hour and parts would cost up to about $138 for an estimated cost of up to $223 per helicopter.

For helicopters with the AH FLIR system installed, installing placards on the pilot and co-pilot doors would take about 0.5 work-hour and parts would cost about $52 for an estimated cost of $95 per helicopter.

If required, installing an external handle on the jettison system would take about 7 work-hours and parts would cost about $1,328 for an estimated cost of $1,923 per helicopter and $51,921 for the U.S. fleet (27 helicopters).

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2022-0988; Project Identifier MCAI-2021-00438-R.

(a) Comments Due Date

The FAA must receive comments on this airworthiness directive (AD) by September 26, 2022.

(b) Affected ADs

None.

(c) Applicability

This AD applies to all Airbus Helicopters Model SA-365N, SA-365N1, AS-365N2, AS 365 N3, EC 155B, and EC155B1 helicopters, certificated in any category.

(d) Subject

Joint Aircraft Service Component (JASC) Codes: 1100, Placards and Markings; and 5210, Passenger/Crew Doors.

(e) Unsafe Condition

This AD was prompted by reports of failure of the cockpit doors to open after ditching with inflated floats on certain helicopters equipped with an emergency flotation system (EFS). The FAA is issuing this AD to inform external rescuers that the cockpit door jettison function needs to be utilized to successfully egress incapacitated flight crew from the cockpit during an emergency when the EFS is activated. This unsafe condition, if not addressed, could result in incapacitated occupants not being able to exit the helicopter after an emergency ditching with inflated floats.

(f) Compliance

Comply with this AD within the compliance times specified, unless already done.

(g) Requirements

Except as specified in paragraph (h) of this AD: Comply with all required actions and compliance times specified in, and in accordance with, European Union Aviation Safety Agency (EASA) AD 2021-0101R1, dated February 25, 2022 (EASA AD 2021-0101R1) and paragraph (i) of this AD.

(h) Exceptions to EASA AD 2021-0101R1

(1) Where EASA AD 2021-0101R1 refers to effective dates “11 February 2021 [the effective date of EASA AD 2021-0041]” and “26 April 2021 [the effective date of the original issue of this AD],” this AD requires using the effective date of this AD.

(2) Where paragraph (1) of EASA AD 2021-0101R1 specifies to “inform all flight crews and, thereafter, operate the helicopter accordingly,” this AD does not require those actions.

(3) The action required by paragraph (1) of EASA AD 2021-0101R1 may be performed by the owner/operator (pilot) holding at least a private pilot certificate, and must be entered into the aircraft records showing compliance with this AD in accordance with 14 CFR 43.9(a) and 14 CFR 91.417(a)(2)(v). The record must be maintained as required by 14 CFR 91.417, 121.380, or 135.439.

(4) Where paragraph (2) of EASA AD 2021-0101R1 specifies to “modify the helicopter in accordance with the instructions of Section 3 of the applicable ASB,” for this AD, replace that text with, “modify the helicopter in accordance with Section 3.B. in the Accomplishment Instructions of the applicable ASB.”

(5) Where EASA AD 2021-0101R1 refers to “ASB AS365-52.00.27” and “AH ASB AS365-52.00.27 original issue dated 17 November 2020 (including Erratum to ASB AS365-52.00.27 original issue dated 21 January 2021),” this AD requires replacing each instance of that text with “Airbus Helicopters Alert Service Bulletin No. AS365-52.00.27, Revision 1, dated June 4, 2021.”

(6) Where the service information referenced in paragraph (2) of EASA AD 2021-0101R1 specifies discarding parts, this AD requires removing those parts from service.

(7) Where the service information referenced in paragraph (2) of EASA AD 2021-0101R1 specifies to use tooling, this AD allows the use of equivalent tooling.

(8) Where the service information referenced in paragraph (2) of EASA AD 2021-0101R1 specifies parking the helicopter in a hangar or maintenance hangar, this AD does not require those actions.

(9) This AD does not mandate compliance with the “Remarks” section of EASA AD 2021-0101R1.

(i) Required Rotorcraft Flight Manual (RFM) Amendment

(1) For Group 2 helicopters as defined in EASA AD 2021-0101R1, concurrently with accomplishing the actions specified in paragraph (1) of EASA AD 2021-0101R1, revise the existing RFM for your helicopter by adding the following text at the end of section 4.1, Normal Procedures: “right and left hand Cockpit Door Jettison Handles are properly closed and secured.”

(2) The action required by paragraph (i)(1) of this AD may be performed by the owner/operator (pilot) holding at least a private pilot certificate, and must be entered into the aircraft records showing compliance with this AD in accordance with 14 CFR 43.9(a) and 14 CFR 91.417(a)(2)(v). The record must be maintained as required by 14 CFR 91.417, 121.380, or 135.439.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(2) of this AD. Information may be emailed to: 9-AVS-AIR-730-AMOC@faa.gov.

(2) Before using any approved AMOC, notify your appropriate principal inspector, or lacking a principal inspector, the manager of the local flight standards district office/certificate holding district office.

(k) Related Information

(1) For EASA AD 2021-0101R1, contact EASA, Konrad-Adenauer-Ufer 3, 50668 Cologne, Germany; telephone +49 221 8999 000; email ADs@easa.europa.eu; internet www.easa.europa.eu. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. This material may be found in the AD docket at www.regulations.gov by searching for and locating Docket No. FAA-2022-0988.

(2) For more information about this AD, contact Darren Gassetto, Aerospace Engineer, COS Program Management Section, Operational Safety Branch, Compliance & Airworthiness Division, FAA, 1600 Stewart Ave., Suite 410, Westbury, NY 11590; telephone (516) 228-7323; email Darren.Gassetto@faa.gov.

(3) For Airbus Helicopters service information identified in this AD, contact Airbus Helicopters, 2701 North Forum Drive, Grand Prairie, TX 75052; telephone (972) 641-0000 or (800) 232-0323; fax (972) 641-3775; or at www.airbus.com/helicopters/services/technical-support.html. You may view this material at the FAA, Office of the Regional Counsel, Southwest Region, 10101 Hillwood Pkwy., Room 6N-321, Fort Worth, TX 76177. For information on the availability of this material at the FAA, call (817) 222-5110.

Issued on July 27, 2022.
Christina Underwood,
Acting Director, Compliance & Airworthiness Division, Aircraft Certification Service.

[FR Doc. 2022-16776 Filed 8-11-22; 8:45 am]

BILLING CODE 4910-13-P